DEPARTMENT OF TRANSPORTATION

Maritime Administration

[Docket Number: MARAD-2002-11830]

Requested Administrative Waiver of the Coastwise Trade Laws

AGENCY: Maritime Administration, Department of Transportation.

ACTION: Invitation for public comments on a requested administrative waiver of the Coastwise Trade Laws for the vessel PHOENIX.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before April 17, 2002.

ADDRESSES: Comments should refer to docket number MARAD-2002-11830. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except Federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-build Requirement

(1) Name of vessel and owner for which waiver is requested. Name of vessel: PHOENIX. Owner: Thomas J. O'Grady.

(2) Size, capacity and tonnage of vessel. According to the applicant: “Gross Tonnage 19GRT, Net Tonnage 17NRT, Length 46.1′, Breadth 14.3′, Depth 5.8′.”

(3) Intended use for vessel, including geographic region of intended operation and trade. According to the applicant: I intend to use this vessel for educational purposes. As an adjunct associate professor of English and Poet-In-Residence at Hampton-Sydney College I plan to offer a course on “Literature of the Sea” which will entail using my boat as a classroom not only for discussing Literature but for teaching Seamanship. I may also use the vessel for paid excursions to various events along the Chesapeake bay and may use students, during future summers, to move the boat to Florida for upcoming winter sailing.” “East Coast of the United States from inland waters to 100 miles out.”

(4) Date and Place of construction and (if applicable) rebuilding. Date of construction: 1982. Place of construction: Kaohsiung, Taiwan

(5) A statement on the impact this waiver will have on other commercial passenger vessel operators. According to the applicant: “I am not aware of any school or person currently offering a course that combines the study of Literature and Sailing, at least not as I have devised such a program, although I know there are other Semester at Sea programs and some certified sailing schools. In any case, my passenger list will be very small and should not compete.”

(6) A statement on the impact this waiver will have on U.S. shipyards. According to the applicant: “None that I can imagine.”

Dated: March 12, 2002.
By Order of the Maritime Administrator.
Joel C. Richard,
Secretary, Maritime Administration.

[FR Doc. 02-6463 Filed 3-15-02; 8:45 am]

BILLING CODE 4910-81-P